FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573.

Archers Cargo Express, Inc. (NVO), One Cross Island Plaza, Suite 102, Rosedale, NY 11422, Officers: Diane B. Pira Sclafani, Secretary/Director (Qualifying Individual), Raman Patial, President/Director, Application Type: New NVO License.

Arlette P. Porras dba RA International (NVO & OFF), 1900 Los Alamitos Drive, Placentia, CA 92870, Officer: Arlette P. Porras, Sole Proprietor, Application Type: New NVO & Off License.

Baron Worldwide, L.L.C. (OFF), 7009 S. Jordan Road, Centennial, CO 80112, Officers: Misha B. Schryer, President (Qualifying Individual), James R. Johnson, Member, Application Type: New OFF License.

Cargo Agents, Inc. (NVO & OFF), 143-30 38th Avenue, Suite 1H, Flushing, NY 11354, Officers: Angel L. Velez, Chief Export Officer/Corporate Officer (Qualifying Individual), Jose Donado, President, Application Type: QI Change.

CargoLogic USA LLC (NVO & OFF), 182-16 149th Road, #212, Springfield Gardens, NY 11413, Officers: Raphael Polonia, Vice President (Qualifying Individual), Alex Epshteyn, President/Secretary, Application Type: New NVO & OFF License.

DNIPRO LLC (NVO & OFF), 645 West 1st Avenue, Roselle, NJ 07203, Officers: Ina Adamashvili, Manager (Qualifying Individual), Igor Pluta, President, Application Type: New NVO & OFF License.

Everglory Logistics, Inc. (NVO & OFF), 440 McClellan Highway, #105F2, East Boston, MA 02128, Officers: Ray Mui, Treasurer & Secretary (Qualifying Individual), Joe Phan, President, Application Type: New NVO & OFF License.

Hawaii Intermodal Tank Transport, LLC (NVO & OFF), 2350 S. Dock Street, #D, Palmetto, FL 34221, Officers: Bahman Sadeghi, Managing Member (Qualifying Individual), Michael Tran, Manager, Application Type: New NVO & OFF License.

ITL USA Inc. dba International Transport & Logistics (ITL) USA Inc. (NVO & OFF), 1200 Route 22 East, Suite 2000, Bridgewater, NJ 08807, Officers: Sunil Chopra, President/CEO (Qualifying Individual), Jan Bock, Director, Application Type: Trade Name Change.

KGL America, Inc. (NVO), 1031 W. Manchester Blvd., A, Inglewood, CA 90301, Officers: Young M. Kay, Secretary/CFO/Director (Qualifying Individual), Bong K. Ji, President/CEO/Director, Application Type: New NVO License.

Kinetix International Logistics, LLC (NVO & OFF), 5400 Shawnee Road, #105, Alexandria, VA 22312, Officers: Shayne L. Berlo, Executive Vice President (Qualifying Individual), Grace Bishar, CEO/Secretary/Treasurer, Application Type: New NVO & OFF License.

L & T General Enterprises, LLC dba South Atlantic Shipping Co. (NVO), 801 Sunnyvale Drive, Wilmington, NC 28412, Officers: David G. Sneeden, Member/Manager, Connie M. Clemmons, Secretary, Carla C. Youngblood, Member/Manager (Qualifying Individuals), Application Type: New NVO License.

Makro Logistics Group L.L.C. (NVO & OFF), 2229 NW 79th Avenue, Doral, FL 33122, Officers: Paul Mendoza, COO (Qualifying Individual), Marcela Mendoza, President, Application Type: QI Change.

NEC Logistics, Ltd. (NVO), 1-403 Kosugi-cho, Nakahara-ku, Kawasaki City, Kanagawa 211-0063 Japan, Officers: Manabu Saito, Operating Officer/General Manager (Qualifying Individual), Application Type: QI Change.

Pioneer Shipping Logistics, Corp. (NVO), 145-119 Guy R. Brewer Blvd., Jamaica, NY 11434, Officer: Xiao Zhi Lou, President/Vice President/Secretary/Treasurer (Qualifying Individual), Application Type: License Transfer.

Tratto International Forwarders Corporation (NVO & OFF), 801 Madrid Street, #01, Coral Gables, FL 33134, Officers: Gloria V. Trapaga-Torres, Director (Qualifying Individual), Antonio Torres, Director, Application Type: License Transfer.

Victory Maritime Services USA (NVO), 425 West Main Street, Alhambra, CA 91801, Officers: Hans P. Hofmann, VP-West Coast Operations (Qualifying Individual), Xu Chen, President/Secretary, Application Type: New NVO License.

World Ports International, Inc. (NVO & OFF), 510 Plaza Drive, Suite 2230, College Park, GA 30349, Officer: Shanny Kala, President (Qualifying Individual), Application Type: Add NVO Service.

Dated: November 19, 2010.
Karen V. Gregory,
Secretary.

[FR Doc. 2010-29713 Filed 11-24-10; 8:45 am]

BILLING CODE 6730-01-P